DEPARTMENT OF THE INTERIOR

Fish and Wildlife Service

[FWS-R1-ES-2014-N101; FXES11130100000-145-FF01E00000]

Endangered and Threatened Species; Recovery Permit Applications

AGENCY: Fish and Wildlife Service, Interior.

ACTION: Notice of availability; request for comments.

SUMMARY: We, the U.S. Fish and Wildlife Service, invite the public to comment on the following applications for recovery permits to conduct activities with the purpose of enhancing the survival of endangered species. The Endangered Species Act of 1973, as amended (Act), prohibits certain activities with endangered species unless a Federal permit allows such activity. The Act also requires that we invite public comment before issuing such permits.

DATES: To ensure consideration, please send your written comments by July 7, 2014.

ADDRESSES: Program Manager for Restoration and Endangered Species Classification, Ecological Services, U.S. Fish and Wildlife Service, Pacific Regional Office, 911 NE 11th Avenue, Portland, OR 97232-4181. Please refer to the permit number for the application when submitting comments.

FOR FURTHER INFORMATION CONTACT: Colleen Henson, Fish and Wildlife Biologist, at the above address or by telephone (503-231-6131) or fax (503-231-6243).

SUPPLEMENTARY INFORMATION:

Background

The Act (16 U.S.C. 1531 et seq.) prohibits certain activities with respect to endangered and threatened species unless a Federal permit allows such activity. Along with our implementing regulations in the Code of Federal Regulations (CFR) at 50 CFR part 17, the Act provides for certain permits, and requires that we invite public comment before issuing these permits for endangered species.

A permit granted by us under section 10(a)(1)(A) of the Act authorizes the permittee to conduct activities (including take or interstate commerce) with respect to U.S. endangered or threatened species for scientific purposes or enhancement of propagation or survival. Our regulations implementing section 10(a)(1)(A) of the Act for these permits are found at 50 CFR 17.22 for endangered wildlife species, 50 CFR 17.32 for threatened wildlife species, 50 CFR 17.62 for endangered plant species, and 50 CFR 17.72 for threatened plant species.

Applications Available for Review and Comment

We invite local, State, and Federal agencies, and the public to comment on the following applications. Please refer to the appropriate permit number for the application when submitting comments.

Documents and other information submitted with these applications are available for review by request from the Program Manager for Restoration and Endangered Species Classification at the address listed in the ADDRESSES section of this notice, subject to the requirements of the Privacy Act (5 U.S.C. 552a) and the Freedom of Information Act (5 U.S.C. 552).

Permit Number: TE-017352

Applicant: Commonwealth of the Northern Mariana Islands, Division of Fish and Wildlife, Saipan, MP.

The applicant requests renewal of an expired permit to take (survey) Mariana crows (Corvus kubaryi); take (survey, capture, handle, band, attach transmitters, collect tissue samples; and release) nightingale Reed-warblers (Acrocephalus luscinia); and to take (monitor, excavate nests, capture, handle, attach transmitters, collect tissue samples and release) Hawksbill sea turtles (Eretmochelys imbricata) in conjunction with scientific research in the Commonwealth of the Northern Mariana Islands and for the purpose of enhancing the species' survival.

Permit Number: TE-702631

Applicant: Assistant Regional Director, Ecological Services, Fish and Wildlife Service, Pacific Region, Portland, Oregon.

The permittee requests an amendment to their recovery permit to allow Service employees, and their designated agents, to take four subspecies of the Mazama pocket gopher: Olympia pocket gopher (Thomomys mazama pugetensis), Roy Prairie pocket gopher (T. m. glacialis), Tenino pocket gopher (T. m. tumuli), and Yelm pocket gopher (T. m. yelmensis). The purpose of these activities is to carry out recovery activities for scientific purposes or for enhancing the species' propagation or survival in Washington State.

Permit Number: TE-826600

Applicant: Michael G. Hadfield, Honolulu, Hawaii.

The permittee requests a permit amendment to take (survey, capture, handle, mark, release, recapture, collect tissue samples, and captive breed) the Lanai tree snail (Partulina variabilis and Partulina semicarinata) and Newcomb's tree snail (Newcombia cumingi) in conjunction with gathering ecological and life history data, and re-establishing wild populations in Hawaii for the purpose of enhancing the species' survival.

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.).

Dated: May 27, 2014.
Richard Hannan,
Acting Regional Director, Pacific Region, U.S. Fish and Wildlife Service.

[FR Doc. 2014-12845 Filed 6-3-14; 8:45 am]

BILLING CODE 4310-55-P